DEPARTMENT OF EDUCATION

National Institute on Disability and Rehabilitation Research; Notice of Final Funding Priorities for Fiscal Years 2001-2002 for a National Center on Accessible Education-Based Information Technology and the Disability and Business Technical Assistance Centers

AGENCY: Office of Special Education and Rehabilitative Services, Department of Education.

SUMMARY: The Assistant Secretary for the Office of Special Education and Rehabilitative Services announces final funding priorities for a National Center on Accessible Education-Based Information Technology and the Disability and Business Technical Assistance Centers under the National Institute on Disability and Rehabilitation Research (NIDRR) for fiscal years 2001-2002. The Assistant Secretary takes this action to focus research attention on areas of national need. We intend these priorities to improve the rehabilitation services and outcomes for individuals with disabilities.

DATES: These priorities take effect on February 7, 2001.

FOR FURTHER INFORMATION CONTACT: Donna Nangle. Telephone: (202) 205-5880. Individuals who use a telecommunications device for the deaf (TDD) may call the TDD number at (202) 205-4475. Internet: donna_nangle@ed.gov.

Individuals with disabilities may obtain this document in an alternative format (e.g., Braille, large print, audiotape, or computer diskette) on request to the contact person listed in the preceding paragraph.

SUPPLEMENTARY INFORMATION: This notice contains final priorities under the Disability and Rehabilitation Research Projects and Centers Program (DRRP) for a National Center on Accessible Education-Based Information Technology and the Disability and Business Technical Assistance Centers.

The final priorities refer to NIDRR's Long Range Plan (the Plan). The Plan can be accessed on the World Wide Web at: http://www.ed.gov/offices/OSERS/NIDRR/#LRP.

National Education Goals

These final priorities will address the National Education Goal that every adult American will be literate and will possess the knowledge and skills necessary to compete in a global economy and exercise the rights and responsibilities of citizenship.

The authority for the program to establish research priorities by reserving funds to support particular research activities is contained in sections 202(g) and 204 of the Rehabilitation Act of 1973, as amended (29 U.S.C. 762(g) and 764(b)(4)). Regulations governing this program are found in 34 CFR part 350.

Note: This notice does not solicit applications. A notice inviting applications is published in this issue of the Federal Register.

Analysis of Comments and Changes

On November 7, 2000, the Assistant Secretary published a notice of proposed priorities in the Federal Register (65 FR 66732). The Department of Education received 10 letters commenting on the notice of proposed priorities by the deadline date. Technical and other minor changes—and suggested changes the Assistant Secretary is not legally authorized to make under statutory authority—are not addressed.

Disability and Rehabilitation Research Project and Centers Program

General Comments

Comment: The National Center on Accessible Education-Based Information Technology or one of the DBTACs should be responsible for evaluating the accessibility of nationally distributed IT products.

Discussion: The scale of this activity would rival all of the required activities in the priority. In addition, a variety of public and private sector interests (e.g., manufacturers, Federal agencies, trade associations, disability organizations) currently undertake this activity. The National Center and the DBTACs will disseminate the results of these evaluations. We decline to revise the priority as suggested because of its scale and in order to avoid duplication of effort.

Changes: None.

Comment: An additional factor was proposed to the selection criteria that will be used to evaluate applications for the National Center and the DBTACs. This proposed factor states that in determining the quality of the project staff, NIDRR will consider the extent to which key personnel have expert knowledge about state-of-the-art IT to conduct all activities.

One commenter suggested that this factor should be revised to include the extent to which key personnel have expert knowledge about the ADA and significant experience in providing technical assistance about basic and complex ADA issues.

A second commenter suggested that this factor should be applied to all partners and collaborators in an application.

Discussion: In regard to the first comment, it will not be possible for the National Center and the DBTACs to fulfill their purposes unless key personnel have expert knowledge on the ADA and experience with providing technical assistance on the ADA. Revising the selection criteria as suggested by the first commenter will improve the evaluation process. We agree to revise the factor as suggested.

In regard to the second comment, the application of this factor is not restricted exclusively to the applicant. The staff of an applicant's partners or collaborators will be evaluated by the peer reviewers using this factor if their roles are considered key to the performance of the grant. It is not necessary to revise the factor in order to address the commenter's concern.

Changes: The selection criteria have been changed to include a factor that addresses the extent to which key personnel have expert knowledge on the ADA and experience with providing technical assistance on the ADA.

National Center on Accessible Education-Based Information Technology

Comment: The National Center should be required to coordinate with the Assistive Technology Act Projects and the Technical Assistance provider to the Assistive Technology Act Projects.

Discussion: The priority requires the National Center to coordinate with a number of NIDRR grantees as well as a wide array of Federal agencies. Because we do not believe that it is imperative for the National Center to coordinate with the Assistive Technology Act Projects and the Technical Assistance provider to the Assistive Technology Act Projects in order to fulfill the purposes of the priority, we decline to require the National Center to coordinate with these entities. However, an applicant may propose to coordinate with the Assistive Technology Act Projects and the Technical Assistance provider to the Assistive Technology Act Projects, and the application review process will evaluate the merits of the proposal.

Changes: None.

Disability and Business Technical Assistance Centers

Comment: Two commenters suggested requiring the DBTACs to provide technical assistance on the nondiscrimination requirements of the Workforce Investment Act to entities within the Workforce Investment System such as One-Stop Centers and local Workforce Investment Boards.

Discussion: Other than educational entities, the priority does not require the DBTACs to provide technical assistance and training to any specific target audience. In order to allow the DBTACs as much flexibility as possible to meet the demands for technical assistance within their region, we decline to require the DBTACs to provide technical assistance and training to entities within the Workforce Development System. The priority allows the DBTACs the discretion to provide technical assistance to all entities covered by the ADA including those within the Workforce Investment System. An applicant may propose to provide technical assistance and training to entities within the Workforce Development System, and the application review process will evaluate the merits of the proposal.

Changes: None.

Comment: Three commenters made various suggestions to require the DBTACs to promote the employment status of persons with disabilities. Two commenters suggested that the DBTACs should be required to promote best practices in the employment area for business and government. One of these commenters also suggested that an additional selection criteria factor be added to evaluate applicants' proposals to promote successful employer practices that impact hiring, retention, and promotion of persons with disabilities.

Two commenters suggested that the DBTACs undertake a number of activities to educate employers and employment specialists on providing accessible IT to employees with disabilities and the benefits of providing this accommodation.

Discussion: One of the primary purposes of the ADA is to prohibit discrimination against persons with disabilities in the area of employment in order to improve their employment status. Nearly twenty-five percent of all the training and technical assistance that the DBTACs provide is targeted to employers and businesses. The DBTACs have the authority to undertake the types of activities submitted by the commenters. We believe that they are excellent activities to promote the successful implementation of the ADA. However, in order to provide the DBTACs with as much flexibility as possible in meeting the needs of their regions, we decline to revise the selection criteria or require these specific activities. An applicant may propose to undertake the activities suggested by the commenters, and the application review process will evaluate the merits of the proposal.

Changes: None.

Comment: The priority adds a special emphasis to the mission of the DBTACs, by requiring them to assist educational entities in providing children, youth, and adults with disabilities with access to IT. Five commenters expressed various concerns about these activities.

Three commenters observed that these activities departed significantly from the DBTACs' primary mission. One of these commenters suggested this activity emphasis could compromise the DBTACs' principal efforts in providing technical assistance and training on the ADA. The other two commenters suggested that the DBTACs did not possess the requisite experience in working with IT and State and local educational entities to be effective. These latter two commenters, as well as two additional commenters, suggested that the Assistive Technology Act State grantees would be more effective than the DBTACs in carrying out these activities.

Discussion: We share the first commenter's concern that the special emphasis should not compromise the technical assistance and training that the DBTACs provide on the ADA. In order to ensure that this does not happen, we requested and received an increase of approximately five million dollars in the DBTAC program's budget. We believe that this additional support will allow the DBTACs to maintain their current level of activity on the ADA and effectively carry out the additional activities related to accessible education-based IT.

In regard to the commenters who questioned whether the DBTACs were the appropriate vehicle to carry out the special emphasis, the DBTAC program has had a special emphasis on working with schools systems dating back to 1994 and has developed a State network structure that is well-suited to delivering training and technical assistance at the State and local levels. In order to ensure that the DBTACs have the technological expertise on IT that will be necessary to successfully carry out the special emphasis, we designed the priority and the selection criteria to require the DBTACs to partner with organizations that are expert in IT and maintain IT expertise on their staffs.

In regard to the comment that the Assistive Technology State grantees would be more effective than the DBTACs in carrying out this special emphasis, NIDRR recognizes the valuable contribution that these organizations can make to this initiative. This is evidenced by the fact that the priority specifically requires the DBTACs to form regional partnerships with the Assistive Technology Act grantees among others. We note that the entities that administer the Assistive Technology State grants are eligible applicants for the DBTAC competition. NIDRR encourages competition in all of our programs, and looks forward to receiving applications from a wide range of applicants with the capabilities to fulfill the purposes of a DBTAC.

Changes: None.

Comment: The DBTACs should be required to utilize the personnel from the Assistive Technology Act Project and the Office of Special Education Program's Regional Resource Centers.

Discussion: We decline to specify applicant personnel because applicants should be able to tailor proposed personnel to the activities that will be supported. An applicant may propose to utilize personnel from the Assistive Technology Act Project and the Office of Special Education Program's Regional Resource Centers, and the application review process will evaluate the merits of the proposal.

Changes: None.

Comment: Educational IT is unique in many respects and is developed by an industry that is diverse and not very advanced in addressing accessibility standards. Providing technical assistance and training to schools without a complementary effort targeted toward industry will minimize the impact of the priority.

Discussion: We agree with the commenter's observations regarding the unique qualities of educational IT and the need to work with industry to improve the accessibility of their IT products. NIDRR has funded a Rehabilitation Engineering Research Center (RERC) on Information Technology Access since June of 1998, an Information Technology Technical Assistance and Training Center in FY2000, and plans on establishing a new RERC on Wireless Information Technology in FY2001. The mission of both of these RERCs is to work closely with industry to assist them in the development and marketing of accessible IT products. When these centers work with the educational IT industry, they will address the unique qualities of educational IT products. Therefore we believe that this priority is appropriately focused with an emphasis on education-based information technology.

Changes: None.

Comment: Two commenters expressed concern about the lack of national standards and its impact on the technical assistance provided by the DBTACs. One of these commenters suggested that NIDRR should wait for national standards for accessibility to computer labs to be developed before providing technical assistance and training to educational entities.

Discussion: National accessibility standards, including those for computer labs, would simplify the work of the DBTACs significantly. However, educational entities need technical assistance now in order to improve the accessibility of their IT. We decline to wait to provide technical assistance and training.

Changes: None.

Comment: Elementary and secondary schools are accustomed to using the Individuals with Disabilities Education Act (IDEA) and Section 504 to understand their obligation to provide accessible instructional technology to students with disabilities. It will be helpful to not only seek a clear legal interpretation of the ADA's requirements for accessible IT, but also to connect that obligation to IDEA and Section 504.

Discussion: As indicated in the background to the priority, covered entities often seek technical assistance to understand the relationship between related disability laws. In order for the DBTACs to be able to provide the type of technical assistance identified by the commenter, the priority requires the DBTACs to be knowledgeable about a wide array of disability-related or disability rights laws, including IDEA and Section 504. In addition, the priority emphasizes the importance of the DBTACs' promotion of best practices in order to encourage educational entities to acquire accessible IT even when they are not obligated to do so. Therefore, no changes are necessary to address the commenter's concern regarding 504 and IDEA because we expect the DBTACs to be able to assist schools to understand not only their ADA obligations, but also the relationships between the ADA, IDEA, and Section 504.

In regard to the comment of the need for clear legal interpretation of the ADA's requirements for IT, as case law and policy guidance from responsible Federal agencies develop on the subject of the application of the ADA to IT, the DBTACs will disseminate this information to all interested parties.

Changes: None.

Comment: Does education-based IT include accessible textbooks and accessibility issues related to instructional media (e.g., captioning and audio description of video)?

Discussion: The final paragraph of the introduction to the two priorities provides definitions of IT and education-based IT. If the textbooks and instructional media contemplated by the commenter meet the definition of IT cited in this paragraph, then they would be considered education-based IT.

Changes: None.

Disability and Rehabilitation Research Project and Centers Program

The authority for Disability and Rehabilitation Research Projects (DRRP) is contained in section 204 of the Rehabilitation of 1973, as amended (29 U.S.C. 762(g) and 764(b)(4)). The purpose of the Disability and Rehabilitation Research Project and Centers Program is to plan and conduct research, demonstration projects, training and related activities to—

(a) Develop methods, procedures, and rehabilitation technology that maximizes the full inclusion and integration into society, employment, independent living, family support, and economic and social self-sufficiency of individuals with disabilities; and

(b) Improve the effectiveness of services authorized under the Act.

Priorities on the ADA and Accessible Education-Based Information Technology (IT)

Public Law 101-336, the Americans with Disabilities Act (ADA), enacted on July 26, 1990, prohibits discrimination against individuals with disabilities in employment, public accommodations, transportation, State and local government, and telecommunications. In October 1991, and again in October 1996, NIDRR awarded five-year grants to establish 10 regional Disability and Business Technical Assistance Centers (DBTACs). These centers provide technical assistance and training on all of the requirements of the ADA to covered entities and individuals with responsibilities and rights under the ADA. Currently, there is one DBTAC in each of the 10 Department of Education regions. For FY 2001 NIDRR is funding 10 new DBTACs that will maintain the current level of effort on providing information and technical assistance on the ADA as well as add a special emphasis in the area of education-based information technology (IT). The purpose of this special emphasis is to assist covered educational entities in providing children, youth, and adults with disabilities with access to IT.

NIDRR is funding two priorities toward this end. The first will establish a national center on accessible education-based IT that will operate in collaboration with the DBTACs and will provide support and guidance on education-based accessible IT technical assistance activities. The second priority will establish 10 new DBTACs and delineates the technical assistance and training activities required of them to promote the successful implementation of the ADA, including those activities related to the special emphasis on educational institutions and accessible IT.

For the purposes of these priorities, and consistent with the Clinger-Cohen Act of 1996, information technology is defined to include any equipment or interconnected system or subsystem of equipment that is used in the automatic acquisition, storage, manipulation, management, movement, control, display, switching, interchange, transmission, or reception of data or information. It includes computer hardware, software, networks, and peripherals as well as many electronic and communications devices commonly used in offices. Education-based IT refers to any IT that is used by either students or employees of educational entities, including, but not limited to, teachers, administrators, and administrative staff.

Priority 1: National Center on Accessible Education-Based IT

Background

IT plays a critical role in all educational settings. Regardless of their age, students who cannot access IT are operating at a significant disadvantage to their peers who can. Recent reports suggests that, regardless of age, educators and students with disabilities face significant IT accessibility issues (“Computer and Internet Use Among People with Disabilities,” Dr. Stephen Kaye, Disability Statistics Center, University of California-San Francisco, published by NIDRR, U.S. Department of Education, March 2000; and “What are the Barriers to Use of Advanced Telecommunications for Students with Disabilities in Public Schools,” Issue Brief published by the National Center for Education Statistics, U.S. Department of Education, NCES 2000-42, January 2000). These issues can be broken down into two types: legal and technological.

Section 504 of the Rehabilitation Act of 1973, as amended, prohibits discrimination on the basis of disability in any program or activity of recipients of Federal financial assistance. Virtually all school districts receive Federal funds and have been required to comply with Section 504 for many years. The ADA extends this prohibition to a wider range of educational entities; however, with some exceptions, the ADA does not impose any major new requirements on school districts and other educational entities that receive Federal funds and are covered by Section 504.

The ADA requires virtually all educational entities to ensure that persons with disabilities are not excluded from participation in, or denied the benefits of, its services, programs, and activities. This includes all aspects of the instructional environment, employment relationships, and services carried out by contractors. When IT is part of the programs, services, or activities provided by the educational entity, those entities have an obligation to ensure that the hardware and software that make up those technologies are accessible to all users. In some instances, educational entities may be unaware of their legal obligation to provide accessible IT to persons with disabilities who enroll or seek to enroll in their programs. Similarly, persons with disabilities may be unaware that they are entitled under the ADA to access the IT of the educational entity.

It may also be the case that educational entities do not have the information they need to either purchase accessible IT, or adapt the IT they have so that it is accessible to students or employees with disabilities. Both the responsible party within the educational entity (e.g., the procurement officer, related services personnel, the teacher, or the computer lab director) and the student, or employee with a disability, may be unaware that accessible IT exists and can be purchased, or that adaptations may be made to the existing IT to provide accessibility. When a student or employee with a disability uses assistive technology (e.g., an augmentative communication device), the technological problem may involve identifying the proper interface between the educational entity's IT and the student or employee's assistive technology. In these instances, information and technical assistance can aid the educational entity to provide accessible IT.

Some educational entities may also be required to comply with the standards for accessible technology to be issued by the Access Board, as required by Section 508 of the Rehabilitation Act. Section 508 requires Federal agencies and departments to ensure equal access to electronic and information technology for individuals with disabilities comparable to those who do not have disabilities, unless such a requirement would cause an undue burden. The Assistive Technology Act (AT Act) requires that States receiving assistance, including sub-recipients of AT Act funds, under the AT State Grants program comply with the requirements of section 508, including the standards developed by the Access Board. Each State must determine whether entities such as colleges and universities or local and intermediate school districts are considered part of the State and therefore, must comply with Section 508 and the standards as published by the Access Board.

Priority 1: We will establish a National Center on Accessible Education-Based IT to assist educational entities in providing persons with disabilities with accessible IT. The Center must:

(1) Develop new materials and reformat or reprint existing materials to assist educational entities to understand and fulfill their legal obligations to provide accessible IT. These materials may include, but are not limited to, the ADA self-evaluation guide for schools, Section 504 and ADA guidance for educational entities, technical materials on IT access, consumers' guide to accessible IT, and technical IT standards;

(2) Conduct a national information dissemination campaign to raise awareness on accessible education-based IT and inform target audiences on the availability of technical assistance from the DBTACs and others. This campaign may include, but is not limited to, print and electronic ads, newsletters, presentations at national conferences, and regular electronic communication with national organizations to update them on legal and technological developments;

(3) Promote the procurement by educational entities of accessible information technology that meets the standards for section 508 or universal design principles;

(4) Coordinate with and provide training, materials, and technical assistance to the DBTACs in support of their technical assistance efforts to educational entities on accessible IT;

(5) Provide training, materials, and technical assistance to the U. S. Department of Education's various IT initiatives including, but not limited to, the Regional Technology in Education Consortia, Comprehensive Regional Assistance Centers, the Technology Literacy Challenge Fund, Community Technology Centers, and the Preparing Tomorrow's Teachers to Use Technology Programs in order to promote accessibility by persons with disabilities; and

In carrying out these activities, the National Center on Accessible Education-based IT must:

• Include in its primary target audience elementary and secondary institutions, and postsecondary educational entities including, but not limited to, institutions of higher education, proprietary schools (particularly those offering IT training), and adult education programs;

• Coordinate with NIDRR's Rehabilitation Engineering Research Centers (RERCs) on Information Technology Access and Telecommunications Access, and also with NIDRR's Information Technology Technical Assistance and Training Center;

• Coordinate with relevant Federal agencies responsible for the administration of public laws that address access to and usability of education-based IT for persons with disabilities including, but not limited, to the General Services Administration, the Access Board, the Federal Communications Commission, the Department of Justice, and offices within the Department of Education including the Rehabilitation Services Administration, the Office of Special Education Programs, and the Office for Civil Rights;

• Develop and maintain a web site to assist educational entities to understand and fulfill their legal obligations related to accessible IT; and

• Provide information and technical assistance consistent with other IT accessibility laws, including, but not limited to, section 508 of the Rehabilitation Act.

Priority 2: Disability and Business Technical Assistance Centers

Background

Covered entities and individuals with responsibilities and rights under the ADA continue to need technical assistance on the ADA. The demand for technical assistance services from the DBTACs has remained high since 1992 (see Table 1), a trend that will likely continue indefinitely.

Table 1.—Summary of Selected DBTAC Technical Assistance and Training Activities From FY 1992 through FY 1999
Fiscal year | Number of 800 line calls | Number of people trained | Number of technical assistance efforts | Number of hard copy materials disseminated
1992 | 20,000 | 30,759 | 40,313 | 188,842
1993 | 61,000 | 63,341 | 79,964 | 539,511
1994 | 75,700 | 56,800 | 127,736 | 698,040
1995 | 90,400 | 64,870 | 152,395 | 901,878
1996 | 88,500 | 64,502 | 135,000 | 1,800,000
1997 | 91,534 | 70,000 | 180,909 | 785,695
1998 | 92,312 | 86,000 | 157,126 | 1,082,294
1999 | 90,839 | 74,500 | 170,865 | 1,014,057
Source: Annual Reports of NIDRR's ADA Technical Assistance Grantees FY 1992-FY 1999.

In many instances, the nature of the technical assistance that the DBTACs provide today is more complex than the technical assistance they provided in the years shortly after the passage of the ADA. This is a result of covered entities seeking to stay current with the growing body of legal precedents as well as standards and policy guidance issued by responsible Federal agencies. However, there are still many covered entities that need information on the most fundamental requirements of the law. Subsequently, DBTACs must continue to provide basic information about the ADA as well as respond to more complex requests for technical assistance and training.

In order to be effective, it is virtually imperative that the DBTACs exploit the benefits of IT and stay current with new developments in the field. For example, the DBTACs use web-based programs to carry out distance learning activities in order to increase access to and participation in their information dissemination efforts. In FY 1999 the DBTACs and the ADA Program Assistance Coordinator's web sites received over 870,001 visits. While there will always be a need to distribute hard copies of materials, the DBTACs receive increasing numbers of requests for electronic copies of these same materials. They also respond to technical questions, provide training, and participate in cooperative efforts related to ADA technical assistance activities using electronic media. To carry out a wide variety of electronic and web-based technical assistance and training activities, the DBTACs' staffs must have a sufficiently high level of expertise on IT.

The DBTACs provide a wide range of technical assistance services such as referrals, consultation, and information dissemination. They also issue newsletters and information briefs, and participate in discussion groups on the Internet. The DBTACs address the needs of non-English populations by distributing materials that have been translated into other languages and employing bilingual information specialists when appropriate. Table 2 indicates the recipient groups of the DBTACs technical assistance, training, and materials distribution activities in FY 1999.

Table 2.—Summary of Percentage of Technical Assistance, Training, and Materials Distributed to Target Audience by DBTACs in FY 1999
Target audience | Technical assistance | Training | Materials distributions
Disability entities | 50 | 44 | 45
Businesses | 31 | 24 | 30
Public entities | 14 | 23 | 18
Other | 5 | 9 | 7
Source: Annual Report of NIDRR's ADA Technical Assistance Grantees FY 1999.

In addition, the DBTACs carry out public awareness activities on the ADA and the services provided by the DBTACs through a variety of means including, but not limited to, radio and television appearances, presentations at conferences, and the production of materials for newspaper and magazine articles. When it enhances their technical assistance activities, the DBTACs also disseminate ADA research findings generated by NIDRR-sponsored grantees and others.

In order to tailor their efforts to State and local needs and maximize their resources, DBTACs also work to increase the capacity of State and local organizations to provide technical assistance, disseminate information, provide training, and promote awareness of the ADA. The DBTACs have established at least one affiliate in every State. These affiliates carry out their activities in collaboration with coalitions of organizations interested in promoting the implementation of the ADA. In addition, the DBTACs support and collaborate with Centers for Independent Living (CILs) to assist them in implementing the ADA through the provision of technical assistance and training.

The DBTACs rely, to the maximum extent possible, on existing Federally-approved materials and, through a systematic process of quality control, ensure the legal sufficiency and accuracy of the information disseminated by the Centers and their affiliates. DBTAC services and activities are accessible to all individuals with disabilities, and all of the materials they distribute are available in alternate formats. The DBTACs also share a national toll-free telephone number that automatically connects the caller with the DBTAC serving the caller's area code. Further, the DBTACs meet semi-annually to coordinate their activities and receive briefings from Federal agencies with responsibilities under the ADA. They also evaluate their technical assistance efforts using the ADA Impact Measurement System (AIMS). AIMS uses a follow-up telephone survey and a postcard survey to measure the impact that the DBTACs' technical assistance has had on its customers and their level of satisfaction with the services that the DBTACs provided. AIMS are currently maintained by one of the DBTACs. The proposed priority includes an optional activity authorizing a DBTAC to maintain AIMS over the proposed project period. From among those DBTAC applicants who propose to maintain AIMS over the project period, the application evaluation process will select one successful applicant to carry out this activity.

Since 1991, the DBTACs have provided technical assistance and training to educational entities on their responsibilities under the ADA. In 1994, NIDRR funded a training project on the ADA for schools and supported the U.S. Department of Education Office for Civil Rights' development and publication of an ADA self-evaluation guide for public elementary and secondary schools. A toll-free ADA hotline specifically for school systems, that originated with the schools training project, is still in operation through the Region I DBTAC. The special emphasis that is being placed on the DBTACs to provide technical assistance on accessible IT to educational entities represents an expansion of their technical assistance efforts. In those instances where the requisite assistance is a matter of helping the entity to understand its legal obligation, NIDRR expects the DBTACs to provide accurate information to the educational entity on the requirements of the ADA. In those instances where the requisite assistance is technical and involves assisting the entity to procure, create, adapt, maintain or evaluate the accessibility of their IT, NIDRR expects the DBTACs to possess the requisite technical expertise or develop partnerships with agencies and organizations who have the necessary technical expertise.

The DBTACs routinely receive inquiries that involve disability-related laws or disability rights laws other than the ADA. In some of these instances, the inquiry concerns the interaction between the ADA and disability-related laws such as the Family and Medical Leave Act or the Worker's Compensation Act. In other instances, individuals with a disability may believe that their civil rights have been violated, but are not sure of the controlling authority. For example, individuals with a disability may want to know about their landlord's responsibility to make their apartment accessible. In this case, in order to provide appropriate technical assistance, the DBTAC must be sufficiently familiar with not only the ADA, but also the Fair Housing Act. Thus to respond directly or to refer the inquirer to an expert source of technical assistance, the DBTACs must be knowledgeable about a wide array of disability-related or disability rights laws.

Priority 2: We will establish a Regional DBTAC in each of the Department of Education 10 regions to facilitate implementation of the ADA. Each center must:

(1) Provide technical assistance and training and disseminate information to individuals and entities with responsibilities and rights under the ADA on the ADA's requirements as well as developments in case law, policy, and implementation;

(2) Increase the capacity of organizations, at the State and local level, including CILs, to provide technical assistance and training on, disseminate information on, and promote awareness of the ADA;

(3) Promote awareness of the ADA and the availability of services provided by the DBTACs, other NIDRR-sponsored ADA grantees, and other Federal information sources on the ADA;

(4) Provide technical assistance and training and disseminate information on legal obligations of educational entities to provide accessible IT to students and employees;

(5) Provide technical assistance to educational entities to enable them to conduct self-evaluations on the accessibility of their IT;

(6) Provide technical assistance, either directly or through referral, on how to make existing IT accessible and ensure that new IT acquisitions are accessible;

(7) Promote “best practices” by encouraging educational entities to purchase IT consistent with the standards issued by the Access Board under Section 508 or universal design principles, regardless of whether they have a legal obligation to do so;

(8) Provide information to independent living centers, Parent Training Information Centers, and the Regional Resource Centers on accessible education-based IT; and

(9) Form regional partnerships among Assistive Technology Act grantees, RERCs, Office of Special Education Programs' technology grantees, and other pertinent educational organizations and agencies to guide, coordinate, and if appropriate, carry out technical assistance activities in each region.

In carrying out these activities each DBTAC must:

• Involve individuals with disabilities, parents or other family members of individuals with disabilities, in all phases of the design and operation of the DBTAC to the maximum extent possible;

• Be knowledgeable about a wide array of disability-related or disability rights laws including, but not limited to, sections 504 and 508 of the Rehabilitation Act, the Individuals with Disabilities Education Act, the Air Carriers Access Act, section 255 of the Telecommunications Act, section 188 of the Workforce Investment Act, the Fair Housing Act, the Family and Medical Leave Act, the AT Act, and workers' compensation laws;

• Coordinate its activities with the National Center on Accessible Education-based IT, and Federal agencies including, but not limited to, the Department of Justice, the Equal Employment Opportunity Commission, the Department of Transportation, the Federal Communications Commission, the Access Board, the Department of Education's Office for Civil Rights, the President's Committee on Employment of Persons with Disabilities, the National Council on Disability, and other offices within the Department of Education including the Rehabilitation Services Administration, and the Office of Special Education Programs;

• Provide performance accountability data on a monthly and annual basis as requested by NIDRR;

• Distribute services and resources equitably—taking into account population and size—among each State in its region;

• Address the needs of non-English speaking populations; and

• Include in their target audience for activities (4), (5), (6) and (7): elementary and secondary institutions, and postsecondary educational entities including, but not limited to, institutions of higher learning, proprietary schools (particularly those offering IT training), and adult education programs.

In carrying out its evaluation activities, a DBTAC may maintain the ADA Impact Measurement System.

Additional Selection Criterion for the DBTACs and the National Center on Accessible Education-Based IT Priorities

We will use the selection criteria in 34 CFR 350.54 to evaluate applications under this program. In evaluating applications for the DBTACs and the National Center on Accessible Education-based IT and, we will also use the following factor under the project staff criterion. In determining the quality of the project staff, we will consider the extent to which key personnel have expert knowledge about state-of-the-art IT to conduct all proposed activities.

Disability and Rehabilitation Research Project and Centers Program

The purpose of the DRRP program is to plan and conduct research, demonstration projects, training, and related activities to:

(a) Develop methods, procedures, and rehabilitation technology that maximizes the full inclusion and integration into society, employment, independent living, family support, and economic and social self-sufficiency of individuals with disabilities; and

(b) Improve the effectiveness of services authorized under the Act.

Additional Selection Criterion

We will use the selection criteria in 34 CFR 350.54 to evaluate applications under these programs. The maximum score for all the criteria is 100 points; however, we will also use the following criterion so that up to an additional ten points may be earned by an applicant for a total possible score of 110 points.

Up to ten (10) points based on the extent to which an application includes effective strategies for employing and advancing in employment qualified individuals with disabilities in projects awarded under this absolute priority. In determining the effectiveness of those strategies, we will consider the applicant's prior success, as described in the application, in employing and advancing in employment qualified individuals with disabilities.

Thus, for purposes of this competitive preference, applicants can be awarded up to a total of 10 points in addition to those awarded under the published selection criteria for these priorities. That is, an applicant meeting this competitive preference could earn a maximum total of 110 points.

Applicable Program Regulations: 34 CFR part 350.

Electronic Access to This Document

You may view this document, as well as all other Department of Education documents published in the Federal Register, in text or Adobe Portable Document Format (PDF) on the Internet at either of the following sites: http://ocfo.ed.gov/fedreg.htm http://www.ed.gov/news.html To use PDF you must have Adobe Acrobat Reader, which is available free at either of the preceding sites. If you have questions about using PDF, call the U.S. Government Printing Office (GPO), toll free, at 1-888-293-6498; or in the Washington, DC, area at (202) 512-1530.

Note: The official version of the document is published in the Federal Register. Free Internet access to the official edition of the Federal Register and the Code of Federal Regulations is available on GPO Access at: http://www.access.gpo.gov/nara/index.html

(Catalog of Federal Domestic Assistance Numbers 84.133D, Disability Rehabilitation Research Project)

Program Authority: 29 U.S.C. 762(g) and 764(b)(4).

Dated: December 26, 2000.
Curtis L. Richards,
Acting Assistant Secretary for Special Education and Rehabilitative Services.

[FR Doc. 01-86 Filed 1-4-01; 8:45 am]

BILLING CODE 4000-01-U